DEPARTMENT OF COMMERCE

National Oceanic and Atmospheric Administration

[RTID 0648-XD517]

Caribbean Fishery Management Council; Public Meeting

AGENCY: National Marine Fisheries Service (NMFS), National Oceanic and Atmospheric Administration (NOAA), Commerce.

ACTION: Notice of public hybrid meeting (in-person/virtual).

SUMMARY: The Caribbean Fishery Management Council (CFMC) will hold the 183rd public hybrid meeting to address the items contained in the tentative agenda included in the SUPPLEMENTARY INFORMATION.

DATES: The 183rd CFMC public hybrid meeting will be held on December 5, 2023, from 9 a.m. to 4:30 p.m. A closed session will be held from 4:45 p.m. to 5:30 p.m., to discuss personnel matters, and on December 6, 2023, from 8 a.m. to 5 p.m., AST.

ADDRESSES:

Meeting address: The meeting will be held at The Westin Beach Resort and Spa at Frenchman's Reef, 5 Estate Bakkeroe, St. Thomas, U.S.V.I. 00802.

You may join the 183rd CFMC public hybrid meeting via Zoom, from a computer, tablet or smartphone by entering the following address:

Join Zoom Meeting, https://us02web.zoom.us/j/83060685915?pwd=VmVsc1orSUtKck8xYk1XOXNDY1ErZz09.

Meeting ID: 830 6068 5915.

Passcode: 995658.

One tap mobile:

+17879451488,,83060685915#,,,,,,0#,,995658# Puerto Rico

+17879667727,,83060685915#,,,,,,0#,,995658# Puerto Rico

Dial by your location:

+1 787 945 1488 Puerto Rico

+1 787 966 7727 Puerto Rico

+1 939 945 0244 Puerto Rico

Meeting ID: 830 6068 5915.

Passcode: 995658.

In case there are problems, and we cannot reconnect via Zoom, the meeting will continue using GoToMeeting.

You can join the meeting from your computer, tablet, or smartphone at https://global.gotomeeting.com/join/971749317. You can also dial in using your phone. United States: +1 (408) 650-3123 Access Code: 971-749-317.

FOR FURTHER INFORMATION CONTACT: Miguel A. Rolón, Executive Director, Caribbean Fishery Management Council, 270 Muñoz Rivera Avenue, Suite 401, San Juan, Puerto Rico 00918-1903, telephone: (787) 398-3717.

SUPPLEMENTARY INFORMATION: The following items included in the tentative agenda will be discussed:

December 5, 2023

9 a.m.-9:30 p.m.

—Call to Order

—Roll Call

—Adoption of Agenda

—Consideration of 182nd Council Meeting Verbatim Transcription

—Executive Director's Report

9:30 a.m.-9:45 a.m.

—Update on NOAA Fisheries Science to Monitor FMPs—Cisco Werner, NOAA Fisheries

9:45 a.m.-10:30 a.m.

—Scientific and Statistical Committee Report—Vance Vicente, Chair

—Ecosystem-Based Fisheries Management Technical Advisory Panel Report—Sennai Habtes, Chair

—Southeast Fishery Science Center Updates—Kevin McCarthy, NOAA Fisheries

10:30 a.m.-10:45 a.m.

—Coffee Break

10:45 a.m.-11:15 a.m.

—Fishery Management Plans (FMPs) Amendments and Actions Update—María López-Mercer, NOAA Fisheries

11:15 a.m.-11:30 a.m.

—Review and Final Action for Amendment 2 to the Island-Based FMPs: Trawl, Net Gear and Descending Devices—María López-Mercer, NOAA Fisheries

11:30 a.m.-12 p.m.

—Framework Amendment to the Puerto Rico FMP to Reclassify the Rainbow Runner as a Pelagic Species—María López-Mercer, NOAA Fisheries

12 p.m.-1:30 p.m.

—Lunch Break

1:30 p.m.-2 p.m.

—Framework Amendment to the Puerto Rico FMP: Queen Triggerfish Reference Point Updates—Sarah Stephenson, NOAA Fisheries

2 p.m.-3 p.m.

—Development of a Federal Permits Program for the U.S. Caribbean, Process Overview—Jessica Stephen and Kevin McIntosh, NOAA Fisheries

3 p.m.-3:15 p.m.

—Coffee Break

3:15 p.m.-3:30 p.m.

—Update on Dolphinfish Project—Wessley Merten

3:30 p.m.-4 p.m.

—Impact of Microplastics Related to COVID-19 Pandemic in the Caribbean and the Fishing Activity—Dalila Aldana

4 p.m.-4:15 p.m.

—Farming of Tropical Seaweed in Puerto Rico—Gretchen Grebe

4:15 p.m.-4:30 p.m.

—Public Comment Period (5-minute presentations)

4:30 p.m.

—Adjourn for the day

4:45 p.m.-5:30 p.m.

—Closed Session

December 6, 2023

8 a.m.-10 a.m.

—Aspects of Science, Management, and Industry on Sargassum—Moderator, Helena Antoun, NOAA Fisheries

10 a.m.-10:30 a.m.

—Draft Options Paper on Modification to the Red Hind Seasonal Closure in St. Croix to Address Pelagic Fish Fishing—NOAA Fisheries

10:30 a.m.-10:45 a.m.

—Coffee Break

10:45 a.m.-11:15 a.m.

—Discussion on Hind Bank Marine Conservation District/Grammanik Bank in St. Thomas—NOAA Fisheries/CFMC

11:15 a.m.-11:35 p.m.

—Outreach and Education Advisory Panel Report—Alida Ortiz

11:35 a.m.-12 p.m.

—CFMC Liaison Officers Reports (10 minutes each)

—St. Croix, U.S.V.I.—Liandry De La Cruz

—St. Thomas/St. John, U.S.V.I.—Nicole Greaux

—Puerto Rico—Wilson Santiago

12 p.m.-1:30 p.m.

—Lunch Break

1:30 p.m.-2:15 p.m.

—District Advisory Panel Reports (15 mins each)

—St. Thomas, U.S.V.I.—Julian Magras, Chair

—St. Croix, U.S.V.I.—Gerson Martinez, Chair

—Puerto Rico—Nelson Crespo, Chair

2:15 p.m.-2:45 p.m.

—NOAA Fisheries' Equity and Environmental Justice (EEJ) Strategy Update—NOAA Fisheries

2:45 p.m.-3:15 p.m.

—NOAA Fisheries' Protected Resources Update—NOAA Fisheries

3:15 p.m.-4 p.m.

—Enforcement Reports (10 minutes each):

—Puerto Rico DNER

—U.S.V.I. DPNR

—U.S. Coast Guard

—NOAA Fisheries Office of Law Enforcement

4 p.m.-4:15 p.m.

—Advisory Bodies Membership

4:15 p.m.-4:30 p.m.

—Other Business

—Public Comment Period (5-minute presentations)

—Next Meetings

5 p.m.

—Adjourn

Note (1): Other than starting time and dates of the meetings, the established times for addressing items on the agenda may be adjusted as necessary to accommodate the timely completion of discussion relevant to the agenda items. To further accommodate discussion and completion of all items on the agenda, the meeting may be extended from, or completed prior to the date established in this notice. Changes in the agenda will be posted to the CFMC website, Facebook, Twitter and Instagram as practicable.

Note (2): Financial disclosure forms are available for inspection at this meeting, as per 50 CFR part 601.

The order of business may be adjusted as necessary to accommodate the completion of agenda items. The meeting will begin on December 5, 2023, at 9:00 a.m. AST, and will end on December 6, 2023 at 5 p.m., AST. Other than the start time on the first day of the meeting, interested parties should be aware that discussions may start earlier or later than indicated in the agenda, at the discretion of the Chair.

Special Accommodations

For any additional information on this public virtual meeting, please contact Diana Martino, Caribbean Fishery Management Council, 270 Muñoz Rivera Avenue, Suite 401, San Juan, Puerto Rico, 00918-1903, telephone: (787) 226-8849.

Authority: 16 U.S.C. 1801 et seq.

Dated: November 7, 2023.
Rey Israel Marquez,
Acting Deputy Director, Office of Sustainable Fisheries, National Marine Fisheries Service.

[FR Doc. 2023-24945 Filed 11-9-23; 8:45 am]

BILLING CODE 3510-22-P